DEPARTMENT OF HEALTH AND HUMAN SERVICES

[Document Identifier: OS-0990-New; 60-Day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Patient Centered Care Collaboration to Improve Minority Health, OMB# 0990-New, Office of Minority Health.

Abstract: The Office of Minority Health (OMH) in the Office of the Assistant Secretary for Health (OASH), Office of the Secretary (OS) is requesting approval from the Office of Management and Budget (OMB) for new data collection activities for the Patient Centered Care Collaboration to Improve Minority Health project (PCCC). This dissemination and adoption initiative funded in 2010, under the ARRA, 2009, through the Office of Minority Health and the Agency for Health Care Quality supports dissemination and adoption priorities as outlined in the HHS Report to Congress on Comparative Effectiveness Research. The PCCC evaluation will assess whether disseminating a diabetes education intervention in a community based health clinic and offering a medication management and adherence intervention through home visits to seniors, improves the health and well being of racial and ethnic minority program participants; if the approach taken through the implementation of proven PCOR findings such as using community health workers and educators, and pharmacists to deliver the interventions improves the likelihood of patients changing their behaviors to improve their health status; and to determine if participants learned new information and skills that would help them to manage their health conditions and improve their health status.

Primary data for the evaluation will come from two waves of in person data collection from patients in a community health center in Chicago, Illinois and patients living in public housing in Houston, Texas. Data will be collected through a baseline survey at beginning of intervention, and a follow up survey at approximately three months post-baseline in the two sites. Data collection for the entire evaluation is expected to last 6 months, from the time the first participant is enrolled until the last 4 month follow up survey is administered.

The funding for this request is derived from American Reinvestment and Recovery Act of 2009 with hard and non-negotiable deadlines for expenditures and completion. The end date for completion of all activities funded under this initiative is June 12, 2012. Thus, a rapid approval of OMB is requested, or the benefits of this initiative cannot be evaluated and HHS would not be able to report the benefits and outcome to the Congress as required.

Estimated Annualized Burden Table
Forms | Type of respondent | Number of respondents | Number of responses per respondent | Average burden (in hours) per response | Total burden hours
Chicago
Screening Questionnaire | Individuals | 165 | 1 | 5/60 | 14
Intake Questionnaire | Individuals | 50 | 1 | 40/60 | 33
Post Questionnaire | Individuals | 40 | 1 | 40/60 | 27
Sub-Total |  | 255 | 1 |  | 74
Houston
Eligibility Screening Form: Hypertension and Diabetes | Individual | 200 | 1 | 15/60 | 50
First Home Visit Forms: Hypertension, Diabetes, or Hypertension and Diabetes | Individual | 200 | 1 | 40/60 | 133
Telephone Follow-up: Being Active and Managing Stress | Individual | 180 | 1 | 20/60 | 60
Telephone Follow-up: Healthy Eating | Individual | 180 | 1 | 20/60 | 60
Post Intervention Follow-up Form: Hypertension, Diabetes, or Hypertension and Diabetes | Individual | 180 | 1 | 20/60 | 60
Sub-total |  | 940 |  |  | 363
Total | Individual | 1195 |  |  | 437

Keith Tucker,
Office of the Secretary, Paperwork Reduction Act Clearance Officer.

[FR Doc. 2011-24442 Filed 9-22-11; 8:45 am]

BILLING CODE 4150-29-P